DEPARTMENT OF COMMERCE

International Trade Administration

[A-570-848]

Freshwater Crawfish Tail Meat from the People's Republic of China: Final Results of Antidumping Duty Administrative Review and New Shipper Reviews; 2013-2014

AGENCY: Enforcement and Compliance, International Trade Administration, Department of Commerce.

SUMMARY: On October 7, 2015, the Department of Commerce (the Department) published in the Federal Register the preliminary results of the administrative review and new shipper reviews of the antidumping duty order on freshwater crawfish tail meat from the People's Republic of China (the PRC).¹ The period of review (POR) for the administrative review and the new shipper reviews is September 1, 2013, through August 31, 2014. These reviews cover five producers/exporters of subject merchandise: China Kingdom (Beijing) Import & Export Co., Ltd. (China Kingdom), Deyan Aquatic Products and Food Co., Ltd. (Deyan Aquatic), Shanghai Ocean Flavor International Trading Co., Ltd. (Shanghai Ocean), Hubei Yuesheng Aquatic Products Co., Ltd. (Hubei Yuesheng), and Weishan Hongda Aquatic Food Co., Ltd., (Hongda). We invited parties to comment on the Preliminary Results. Based on our analysis of the comments received, we have made changes to our margin calculations. Therefore, these final results differ from the Preliminary Results. The final weighted-average dumping margins for the reviewed firms are listed below in the section entitled “Final Results of the Administrative Review and New Shipper Reviews.”

¹ See Freshwater Crawfish Tail Meat From the People's Republic of China: Preliminary Results of Antidumping Duty Administrative Review and New Shipper Reviews; 2013-2014, 80 FR 60624 (October 7, 2015) (Preliminary Results). Also, on November 21, 2014, in accordance with 19 CFR 351.214(j)(3), the Department aligned the new shipper review with the administrative review. See Memorandum to the File entitled “Alignment of New Shipper Reviews of Freshwater Crawfish Tail Meat from the People's Republic of China with the concurrent administrative review of Freshwater Crawfish Tail Meat from the People's Republic of China” dated November 21, 2014.

DATES: Effective Date: April 13, 2016.

FOR FURTHER INFORMATION CONTACT: Hermes Pinilla or Minoo Hatten, AD/CVD Operations, Office I, Enforcement and Compliance, International Trade Administration, U.S. Department of Commerce, 1401 Constitution Avenue NW., Washington, DC 20230; telephone: (202) 482-3477 or (202) 482-1690, respectively.

SUPPLEMENTARY INFORMATION:

Background

On October 3, 2013, the Department published the Preliminary Results of these reviews. On January 6, 2016, we issued a memorandum extending the time limit for the final results of these reviews to April 4, 2016.² As explained in the memorandum from the Acting Assistant Secretary for Enforcement and Compliance, the Department has exercised its discretion to toll all administrative deadlines due to the closure of the Federal Government in January 2016. All deadlines in this segment of the proceeding have been extended by four business days. The revised deadline for the final results of these reviews is now April 8, 2016.³

² See Memorandum to Christian Marsh, Deputy Assistant Secretary for Antidumping and Countervailing Duty Operations, “Freshwater Crawfish Tail Meat from the People's Republic of China: Extension of Time Limit for Final Results of Antidumping Duty Administrative Review and New Shipper Reviews; 2013-2014,” dated January 6, 2016.

³ See Memorandum to the Record from Ron Lorentzen, Acting A/S for Enforcement and Compliance, regarding “Tolling of Administrative Deadlines As a Result of the Government Closure During Snowstorm Jonas,” dated January 27, 2016.

The Department gave interested parties an opportunity to comment on the Preliminary Results. We received case briefs from the petitioners, the Crawfish Processors Alliance (CPA), and Hongda on November 6, 2015. We received a rebuttal brief from Hongda on November 12, 2015. Pursuant to a request from CPA, we held a public hearing on February 11, 2016.⁴

⁴ See Public Hearing Transcript concerning the Administrative and New Shipper Reviews of the Antidumping Duty Order on Freshwater Crawfish Tail Meat from the People's Republic of China (February 11, 2016).

We conducted these reviews in accordance with sections 751(a)(1)(B) and 751(a)(2)(B) of the Tariff Act of 1930, as amended (the Act).

Scope of the Order

The merchandise subject to the antidumping duty order is freshwater crawfish tail meat, which is currently classified in the Harmonized Tariff Schedule of the United States (HTSUS) under subheadings 1605.40.10.10, 1605.40.10.90, 0306.19.00.10, and 0306.29.00.00. On February 10, 2012, the Department added HTSUS classification number 0306.29.01.00 to the scope description pursuant to a request by U.S. Customs and Border Protection (CBP). The HTSUS numbers are provided for convenience and customs purposes only. The written description of the scope is dispositive. A full description of the scope of the order is contained in the Issues and Decision Memorandum,⁵ which is hereby adopted by this notice.

⁵ See Memorandum to Ronald K. Lorentzen, Acting Assistant Secretary for Enforcement and Compliance, from Christian Marsh, Deputy Assistant Secretary for Antidumping and Countervailing Duty Operations, “Issues and Decision Memorandum for the Final Results of Antidumping Duty Administrative Review and New Shipper Reviews of Freshwater Crawfish Tail Meat from the People's Republic of China” dated concurrently with and hereby adopted by this notice (Issues and Decision Memorandum).

Analysis of Comments Received

All issues raised in the case briefs by parties to these reviews are addressed in the Issues and Decision Memorandum. A list of the issues raised is attached to this notice as an appendix. The Issues and Decision Memorandum is a public document and is on file electronically via Enforcement and Compliance's Antidumping and Countervailing Duty Centralized Electronic Service System (ACCESS). ACCESS is available to registered users at http://access.trade.gov and is available to all parties in the Central Records Unit, room B8024 of the main Department of Commerce building. In addition, a complete version of the Issues and Decision Memorandum can be accessed directly on the Enforcement and Compliance Web site at http://enforcement.trade.gov/frn/. The signed Issues and Decision Memorandum and the electronic versions are identical in content.

Final Results of the Administrative Review and New Shipper Reviews

For the final results of the administrative review, we determine that the following percentage weighted-average dumping margins exist for the period September 1, 2013, through August 31, 2014:

Producer/exporter | Weighted average dumping margin (percent)
China Kingdom (Beijing) Import & Export Co., Ltd | 22.16
Deyan Aquatic Products and Food Co., Ltd | 12.04
Shanghai Ocean International International Trading Co., Ltd | 17.23

For the final results of the new shipper reviews, the Department determines that a dumping margin of 42.45 percent exists for merchandise produced and exported by Hubei Yuesheng Aquatic Products Co., Ltd. and a dumping margin of 26.10 percent exists for merchandise produced and exported by Weishan Hongda Aquatic Food Co., Ltd., covering the period September 1, 2013, through August 31, 2014.

Assessment

The Department will determine, and CBP shall assess, antidumping duties on all appropriate entries covered by these reviews.⁶ In accordance with 19 CFR 351.212(b)(1), we have calculated importer-specific (or customer-specific) assessment rates for merchandise subject to these reviews.

⁶ See 19 CFR 351.212(b)(1).

For these final results, we divided the total dumping margins (calculated as the difference between normal value and export price) for each of the respondents' importers or customers by the total number of kilograms the exporter sold to that importer or customer. We will direct CBP to assess the resulting per-kilogram dollar amount against each kilogram of merchandise in each of that importer's/customer's entries during the review period.

For entries that were not reported in the U.S. sales databases submitted by companies individually examined during these reviews, the Department will instruct CBP to liquidate such entries at the PRC-wide rate. We intend to issue assessment instructions to CBP 15 days after the date of publication of these final results of reviews.

Cash Deposit Requirements

The following cash deposit requirements will be effective upon publication of the final results of the administrative review for all shipments of the subject merchandise entered, or withdrawn from warehouse, for consumption on or after the publication date as provided by section 751(a)(2)(C) of the Act: (1) For subject merchandise exported by the companies listed above, the cash deposit rate will be the rate established in the final results of the administrative review for each exporter as listed above, except if the rate is zero or de minimis, then no cash deposit will be required for that exporter; (2) for previously investigated companies not listed above that have separate rates, the cash deposit rate will continue to be the company-specific rate published for the investigation; (3) for all other PRC exporters of subject merchandise which have not been found to be entitled to a separate rate, the cash deposit rate will be the PRC-wide rate of 223.01 percent; and (4) for all non-PRC exporters of subject merchandise which have not received their own rate, the cash deposit rate will be the rate applicable to the PRC entity that supplied that non-PRC exporter.

With respect to Hubei Yuesheng, a respondent in the new shipper review, the Department established a combination cash deposit rate for this company consistent with its practice, as follows: (1) For subject merchandise produced and exported by Hubei Yuesheng the cash deposit rate will be the rate established in the final results of the new shipper review; (2) for subject merchandise exported by Hubei Yuesheng, but not produced by Hubei Yuesheng, the cash deposit rate will be the rate for the PRC-wide entity; and (3) for subject merchandise produced by Hubei Yuesheng, but not exported by Hubei Yuesheng, the cash deposit rate will be the rate applicable to the exporter.

With respect to Hongda, a respondent in the new shipper review, the Department established a combination cash deposit rate for this company consistent with its practice, as follows: (1) For subject merchandise produced and exported by Hongda the cash deposit rate will be the rate established in the final results of the new shipper review; (2) for subject merchandise exported by Hongda, but not produced by Hongda, the cash deposit rate will be the rate for the PRC-wide entity; and (3) for subject merchandise produced by Hongda, but not exported by Hongda, the cash deposit rate will be the rate applicable to the exporter.

These deposit requirements, when imposed, shall remain in effect until further notice.

Disclosure

We intend to disclose the calculations performed regarding these final results within five days of the date of publication of this notice in accordance with 19 CFR 351.224(b).

Notifications

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

These final results of reviews are issued and published in accordance with sections 751(a)(1), 751(a)(2)(B)(iv), 751(a)(3), 777(i) of the Act and 19 CFR 351.213(h), 351.214 and 351.221(b)(4).

Dated: April 8, 2016.
Ronald K. Lorentzen,
Acting Assistant Secretary for Enforcement and Compliance.

Appendix

List of Topics Discussed in the Issues and Decision Memorandum:

A. Summary

B. Background

C. Surrogate Country

D. Separate Rates

E. Discussion of the Issues

1. Use of Financial Information to Value Factory Overhead, Selling, General & Administrative (SG&A) Expenses, and Profit

2. Selection of Surrogate Value for Water

3. Application of a Zero Margin to Unexamined Respondent

4. Clerical Error

F. Recommendation

[FR Doc. 2016-08501 Filed 4-12-16; 8:45 am]

BILLING CODE 3510-DS-P